CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled The CNCS Retired and Senior Volunteer Program Survey for review and approval in accordance with the Paperwork Reduction Act of 1995, Public Law 104-13, (44 U.S.C. Chapter 35). Copies of this ICR, with applicable supporting documentation, may be obtained by calling the Corporation for National and Community Service, Anthony Nerino, Research Associate, at 202-606-3913 or email to anerino@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on November 12, 2013. This comment period ended January 13, 2014. No public comments were received from this Notice.

Description: Currently, CNCS is soliciting comments concerning its proposed Retired and Senior Volunteer Program Survey. The survey will be administered to a sample of current RSVP volunteers to assess the distribution of volunteers across work plans, volunteer time, volunteer demographic information and level of psycho-social health and functioning. The survey is designed to allow CNCS to compare the results to a comparison group that is a representative sample of Americans age 50 and older.

Type of Review: New.

Agency: Corporation for National and Community Service.

Title: Retired and Senior Volunteer Survey.

OMB Number: New.

Agency Number: None.

Affected Public: Volunteers in the Retired and Senior Volunteer Program.

Total Respondents: 1200 respondents.

Frequency: Once.

Average Time per Response: 30 minutes.

Estimated Total Burden Hours: 600 hours.

Total Burden Cost (capital/startup): None.

Total Burden Cost (operating/maintenance): None.

Dated: February 18, 2014.
Mary Hyde,
Acting Director, Research and Evaluation.

[FR Doc. 2014-03764 Filed 2-21-14; 8:45 am]

BILLING CODE 6050-28-P